DEPARTMENT OF ENERGY

Federal Energy Regulatory Commission

[Project No. 2816-048]

North Hartland, LLC—New Hampshire, North Hartland, LLC—Vermont; Notice of Application for Transfer of License and Soliciting Comments, Motions To Intervene, and Protests

On May 25, 2016, North Hartland, LLC—New Hampshire (transferor) and North Hartland, LLC—Vermont (transferee) filed an application for the transfer of license of the North Hartland Project No. 2816. The project is located at the existing U.S. Army Corps of Engineers' North Hartland Dam on the Ottauquechee River in Windsor County, Vermont.

The applicants seek Commission approval to transfer the license for the North Hartland Project from the transferor to the transferee. This transfer of license reflects an internal corporate reorganization. The transferor will be merged into newly created transferee.

Applicants Contact: Mr. Andrew Locke, Messalonskee Stream Hydro, LLC, c/o Essex Hydro Assets, 55 Union Street, 4th Floor, Boston, MA 02108, Phone: 617-367-0032, Email: alocke@essexhydro.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2816-048.

Dated: June 8, 2016.
Kimberly D. Bose,
Secretary.

[FR Doc. 2016-13972 Filed 6-13-16; 8:45 am]

BILLING CODE 6717-01-P